DEPARTMENT OF TRANSPORTATION

Federal Aviation Administration

Notice of Availability, Notice of Public Comment Period, Notice of Public Meetings, and Request for Comment on the Draft Tiered Environmental Assessment for SpaceX Starship/Super Heavy Vehicle Increased Cadence at the Boca Chica Launch Site in Cameron County, Texas

AGENCY: Federal Aviation Administration (FAA), Department of Transportation (DOT).

ACTION: Notice of availability, notice of public comment period, notice of public meetings, and request for comment.

SUMMARY: In accordance with the National Environmental Policy Act of 1969, as amended (NEPA), Council on Environmental Quality NEPA-implementing regulations, and FAA Order 1050.1F, Environmental Impacts: Policies and Procedures, the FAA is announcing the availability of and requesting comment on the draft Tiered Environmental Assessment for SpaceX Starship/Super Heavy Vehicle Increased Cadence at the Boca Chica Launch Site in Cameron County, Texas (Draft EA). The Draft EA will analyze SpaceX's proposal to increase the cadence of operations up to 25 annual Starship/Super Heavy orbital launches, up to 25 annual landings of Starship, up to 25 annual landings of Super Heavy, and addresses vehicle upgrades.

DATES: No registration is required for the four in-person public meetings that will be held at the following dates and times (Central):

• Tuesday, August 13, 2024; 1 p.m.-3 p.m. & 5:30-7:30 p.m. CDT, City of South Padre Island Convention Center, 7355 Padre Blvd., South Padre Island, TX 78597

• Thursday, August 15, 2024; 1 p.m.-3 p.m. & 5:30 p.m.-7:30 M CDT, Port Isabel Event & Cultural Center, 309 E Railroad Ave., Port Isabel, TX 78578

Registration is required for the virtual public meeting that will be held on the following date and time (Central):

• Tuesday, August 20, 2023; 5:30 p.m.-7:30 p.m. CDT, Registration Link: https://us02web.zoom.us/webinar/register/WN_XiuGxJWtTkK3a84d8yFhVw, Dial-in phone number: 888-778-0099 (Toll Free), Webinar ID: 857 9139 8585, Passcode: 864394

The public comment period for the Draft EA will close on August 29, 2024.

ADDRESSES: The FAA invites interested parties to submit comments on the Draft EA. Public comments can be submitted electronically to www.regulations.gov under Docket No. FAA-2024-2006, by postal mail to Ms. Amy Hanson, SpaceX EA, c/o ICF 1902 Reston Metro Plaza Reston, VA 20190, or delivered in written or verbal form at a public meeting.

FOR FURTHER INFORMATION CONTACT: Amy Hanson at (847) 243-7609 or SpaceXBocaChica@icf.com.

SUPPLEMENTARY INFORMATION: The FAA will provide a pre-recorded presentation during the first half hour of all of the public meetings. The public will also have an opportunity to submit written and oral comments during the meetings. English-Spanish translation services will be provided. Both English and Spanish versions of the presentation will be made available to the public on August 13, 2024, on this website listed above.

More information on the public meetings can be found at: https://www.faa.gov/space/stakeholder_engagement/spacex_starship. If any accommodation for the public meetings is needed (such as additional translation services), please submit a request by August 2, 2024, to the project email address: SpaceXBocaChica@icf.com. For any media inquiries, please contact the FAA Press Office at pressoffice@faa.gov.

Before including your address, phone number, email address, or other personal identifying information in your comment, be advised that your entire comment—including your personal identifying information—may be made publicly available at any time. While you can ask the FAA in your comment to withhold from public review your personal identifying information, the FAA cannot guarantee that it will be able to do so. All comments received during the comment period will be given equal weight and be taken into consideration in the preparation of the Final EA.

Issued in Washington, DC, on July 29, 2024.
Stacey Molinich Zee,
Manager, Operations Support Branch.

[FR Doc. 2024-16983 Filed 7-31-24; 8:45 am]

BILLING CODE 4910-13-P